DEPARTMENT OF LABOR

Employment and Training Administration

[TA-W-57,470]

Wilson Sporting Goods Company, Golf Division, a Division of Amer of Finland, Humboldt, TN; Notice of Revised Determination on Reconsideration

By letter dated August 30, 2005, a company official requested administrative reconsideration of the Department's negative determination for Trade Adjustment Assistance (TAA) and Alternative Trade Adjustment Assistance (ATAA) for workers of the subject facility. Workers produce golf balls.

The denial was based on the finding of no separations, actual or threatened, during the relevant period. The denial was issued on August 1, 2005 and published in the Federal Register on August 26, 2005 (70 FR 50411).

The investigation revealed that January through May 2005 employment levels increased from January through May 2004 levels, that production levels declined during January through May 2005 from January through May 2004 levels, and that a shift of production abroad was followed by increased company imports.

In the request for reconsideration, the company official stated that workers were separated in June 2005. Subsequent conversations confirmed the statement and established that additional separations are scheduled to occur in October 2005.

The investigation also revealed that all alternative trade adjustment assistance criteria have been met. A significant number or proportion of the worker group are age fifty years or over and workers possess skills that are not easily transferable. Competitive conditions within the industry are adverse.

Conclusion

After careful review of the additional facts obtained on reconsideration, I conclude that increased imports of golf balls contributed importantly to worker separations at the subject firm. In accordance with the provisions of the Act, I make the following certification:

All workers of Wilson Sporting Goods Company, Golf Division, A Division of Amer of Finland, Humboldt, Tennessee, who became totally or partially separated from employment on or after June 27, 2004, through two years from the date of this certification, are eligible to apply for adjustment assistance under Section 223 of the Trade Act of 1974, and are also eligible to apply for alternative trade adjustment assistance under Section 246 of the Trade Act of 1974.

Signed in Washington, DC, this 7th day of September, 2005.
Elliott S. Kushner,
Certifying Officer, Division of Trade Adjustment Assistance.

[FR Doc. 05-18546 Filed 9-16-05; 8:45 am]

BILLING CODE 4510-30-P